DEPARTMENT OF HEALTH AND HUMAN SERVICES

National Institutes of Health

Proposed Collection; 60-Day Comment Request; Identifying Experts in Prevention Science Methods To Include on NIH Review Panels, Office of Disease Prevention (NIH ODP)

AGENCY: National Institutes of Health, Department of Health and Human Services.

ACTION: Notice.

SUMMARY: In compliance with the requirement of Section 3506(c)(2)(A) of the Paperwork Reduction Act of 1995, to provide opportunity for public comment on proposed data collection projects, the National Institutes of Health (NIH), Office of Disease Prevention (ODP) will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Dr. Ranell Myles, Public Health Analyst, NIH Office of Disease Prevention, 6100 Executive Blvd., Room 2B03, Bethesda, MD 20892 or call (301) 827-5579 or email your request, including your address to prevention@mail.nih.gov. Formal requests for additional plans and instruments must be requested in writing.

SUPPLEMENTARY INFORMATION: Section 3506(c)(2)(A) of the Paperwork Reduction Act of 1995 requires: Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Proposed Collection Title: Identifying Experts in Prevention Science Methods to Include on NIH Review Panels,—REVISION, Office of Disease Prevention (ODP), National Institutes of Health (NIH).

Need and Use of Information Collection: The Office of Disease Prevention (ODP) is the lead Office at the National Institutes of Health (NIH) responsible for assessing, facilitating, and stimulating research in disease prevention and health promotion, and disseminating the results of this research to improve public health. Prevention is preferable to treatment, and research on disease prevention is an important part of the NIH's mission. The knowledge gained from this research leads to stronger clinical practice, health policy, and community health programs. ODP collaborates with the NIH, other Department of Health and Human Services (DHHS) agencies, and other public and private partners to achieve the Office's mission and goals. One of our priorities is to promote the use of the best available methods in prevention research and support the development of better methods. One of our strategies is to help the Center for Scientific Review (CSR) identify experts in prevention science methods to include on their review panels. This will strengthen the panels and improve the quality of the prevention research supported by the NIH. To identify experts in prevention science methods, we worked with our contractor, IQ Solutions, Inc., to develop online software which will allow us to collect scientists' names, contact information, and resumes, as well as to have those scientists identify their level of expertise in a variety of prevention science methods and content areas. The a collected with this software was used to create a web-based tool that CSR staff can use to identify scientists with expertise in specific prevention science methods and content areas for invitation to serve on one of the CSR review panels. This system will also be shared with review staff in the other Institutes and Centers at the NIH, as well as other DHHS agencies, to use in the same way. Given our plans to create an automated system for reviewer information collection, we are now seeking OMB approval for a revision to our data collection plan.

This OMB revision request is for the collection of additional data not collected in the previously deployed online software and survey including additional study design topics, research methods, content topics, as well as the geographic region of research of the investigator/respondent and the income category of the region/country in which the investigator's/respondent's research is performed.

OMB approval is requested for 3 years. There are no costs to respondents other than their time. The total estimated annualized burden hours are 1,300.

Estimated Annualized Burden Hours
Type of respondents | Number of respondents | Number of responses per respondent | Average time per response (in hours) | Total annual burden hour
Investigators | 3,120 | 1 | 25/60 | 1,300
Total |  | 3,120 |  | 1,300

Dated: June 29, 2017.
Lawrence A. Tabak,
Principal Deputy Director, National Institutes of Health.

[FR Doc. 2017-14087 Filed 7-5-17; 8:45 am]

BILLING CODE 4140-01-P